DEPARTMENT OF ENERGY

Federal Energy Regulatory Commission

[Project No. 2615-037]

FPL Energy Maine Hydro LLC, Madison Paper Industries, and Merimil Limited Partnership; Notice of Application Accepted for Filing, Soliciting Motions To Intervene and Protests, Ready for Environmental Analysis, and Soliciting Comments, Recommendations, Preliminary Terms and Conditions, and Preliminary Fishway Prescriptions

May 6, 2010.

Take notice that the following hydroelectric application has been filed with the Commission and is available for public inspection.

a. Type of Application: New Major License.

b. Project No.: 2615-037.

c. Date Filed: March 31, 2010.

d. Applicant: FPL Energy Maine Hydro LLC, Madison Paper Industries, and Merimil Limited Partnership.

e. Name of Project: Brassua Hydroelectric Project.

f. Location: The existing project is located on the Moose River in Somerset County, Maine. The project does not occupy federal lands.

g. Filed Pursuant to: Federal Power Act 16 USC 791(a)-825(r).

h. Applicant Contact: Mr. Frank H. Dunlap, FPL Energy Maine Hydro LLC, 26 Katherine Drive, Hallowell, Maine 04347; Telephone (207) 629-1817.

i. FERC Contact: John Costello (202) 502-6119 or john.costello@ferc.gov

j. The deadline for filing motions to intervene and protests, comments, recommendations, preliminary terms and conditions, and preliminary fishway prescriptions is 60 days from the issuance date of this notice; reply comments are due 105 days from the issuance date of this notice.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene, protests, comments, recommendations, preliminary terms and conditions, and preliminary fishway prescriptions may be filed electronically via the Internet in lieu of paper. The Commission strongly encourages electronic filings. See 18 CFR 385.2001(a)(1)(iii) and the instructions on the Commission's Web site (http://www.ferc.gov) under the “eFiling” link. For a simpler method of submitting text-only comments, click on “Quick Comment.”

k. This application has been accepted for filing and is ready for environmental analysis.

l. The existing Brassua Project includes: (1) A 1,789-foot-long dam consisting of: (a) An earth dike 410 feet long with 100 feet of concrete core wall; (b) a concrete-faced earth dike 342.5 feet long; (c) a concrete Ambursen dam 284 feet long with a height of 52 feet above the stream bed; (d) a 18.5-foot fishway (inactive); and (e) a 734-foot earth dike with a concrete core wall; (2) a 9,700-acre reservoir (known as Brassua Lake) with a normal pool elevation 1,074.0 feet (U.S.G.S. datum) and maximum drawdown of 31 feet, extending 7.75 miles upstream; (3) a reinforced-concrete intake structure; (4) a 110-foot-long, 13-foot square penstock; (5) a 32-foot-high, 32-foot-wide and 60-foot-long powerhouse; (6) a 4.18-MW generating unit; (7) a 40-foot-wide, 15-foot-deep and 60-foot-long tailrace; (8) a substation; (9) a 0.5-mile-long, 34.5-kV (kilovolt) transmission line; and (10) appurtenant facilities. The earth sections of the dam are topped with 33.5-inch-high wave barriers (Jersey barriers).

The Brassua Project is operated as a seasonal storage facility where water releases are determined by downstream demands for hydroelectric generation in the Kennebec River and for flood control. Reservoir fluctuations follow an annual cycle under which reservoir levels are reduced during the fall and winter to provide additional flows downstream as well as to make storage volume available for spring snow melt and runoff. After the spring refill, flow is released for the Brassua reservoir to provide summer minimum instream flows as well as water for industrial and municipal uses. Specific project operation requirements are discussed below.

The current license allows the licensees to operate the Brassua Project in peaking mode from July 1st through August 31st and from November 6th through the start of spring freshnet (normally mid-May) of each year. The licensee is required to cease peaking operation and resume normal operation in which flows through the project are maintained constant on a daily basis from spring freshnet through June 30th and from September 1st through November 5th of each year.

The current license requires the licensee to release the following minimum flows and maintain the following target water levels to protect fish and aquatic habitat and to benefit the reproductive efforts of the landlocked salmon population in the Moose River. All Minimum flow releases are maintained through the turbine or deep gates and discharged in the lower Moose River below the dam.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, 202-502-8659. A copy is also available for inspection and reproduction at the address in item h above.

Register online at http://www.ferc.gov/esubscribenow.htm to be notified via e-mail of new filings and issuances related to this or other pending projects. For assistance, contact FERC Online Support.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) Bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following Hydro Licensing Schedule. Revisions to the schedule may be made as appropriate.

Milestone | Target date
Filing of interventions, comments, recommendations, preliminary terms and conditions, and fishway prescriptions | July 5, 2010.
Commission issues EA | December 17, 2010.
Filing of comments on EA | January 16, 2011.
Filing of modified terms and conditions | March 17, 2011.

p. Final amendments to the application must be filed with the Commission no later than 30 days from the issuance date of this notice.

q. A license applicant must file no later than 60 days following the date of issuance of the notice of acceptance and ready for environmental analysis provided for in § 5.22: (1) A copy of the water quality certification; (2) a copy of the request for certification, including proof of the date on which the certifying agency received the request; or (3) evidence of waiver of water quality certification.

Kimberly D. Bose,
Secretary.

[FR Doc. 2010-11526 Filed 5-13-10; 8:45 am]

BILLING CODE 6717-01-P